DEPARTMENT OF EDUCATION

RIN 1865-ZA04

Safe Schools/Healthy Students

AGENCY: Office of Safe and Drug-Free Schools, Department of Education.

ACTION: Notice of proposed priorities, requirements, selection criteria, and definitions.

SUMMARY: The Departments of Education (ED), Health and Human Services (HHS), and Justice (DOJ) issue this notice to propose priorities, requirements, selection criteria, and definitions for the Safe Schools/Healthy Students (SS/HS) Initiative. We propose this action to focus Federal financial assistance on safe, disciplined, and drug-free learning environments and healthy childhood development. We intend the priorities to support the implementation and enhancement of integrated, comprehensive community-wide plans that create safe and drug-free schools and promote healthy childhood development. The Assistant Deputy Secretary may use these proposed priorities, requirements, selection criteria, and definitions for competitions in fiscal year (FY) 2007 and later years.

DATES: We must receive your comments on or before March 29, 2007.

ADDRESSES: Address all comments about these proposed priorities, requirements, selection criteria, and definitions to Karen Dorsey, U.S. Department of Education, 400 Maryland Avenue, SW., room 3E336, Washington, DC 20202-6450. If you prefer to send your comments through the Internet, use the following address: Karen.Dorsey@ed.gov.

Please include the following in the subject line of all e-mails, “Comments on SS/HS NPP.”

FOR FURTHER INFORMATION CONTACT: Karen Dorsey. Telephone (202) 708-4674 or via Internet: Karen.Dorsey@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding the proposed priorities, requirements, selection criteria, and definitions. To ensure that your comments have maximum effect in developing the notice of final priorities, requirements, selection criteria, and definitions, we urge you to identify clearly the specific proposed priority, requirement, selection criterion, or definition your comment addresses.

We invite you to assist us in complying with the specific requirements of Executive Order 12866 and its overall requirements of reducing regulatory burden that might result from the proposed priorities, requirements, selection criteria, and definitions. Please let us know of any further opportunities we should take to reduce potential costs or increase potential benefits while preserving the effective and efficient administration of the program.

During and after the comment period, you may inspect all public comments about these proposed priorities, requirements, selection criteria, and definitions in room 3E316 at 400 Maryland Avenue, SW., Washington, DC, between the hours of 8:30 a.m. and 4 p.m., Eastern Time, Monday through Friday of each week except Federal holidays.

Assistance to Individuals With Disabilities in Reviewing the Rulemaking Record

On request, we will supply an appropriate aid, such as a reader or printer magnifier, to an individual with a disability who needs assistance to review the comments or other documents in the public rulemaking record for these proposed priorities, requirements, selection criteria, and definitions. If you want to schedule an appointment for this type of aid, please contact the person listed under FOR FURTHER INFORMATION CONTACT.

We will announce the final priorities, requirements, selection criteria, and definitions in a notice in the Federal Register. We will determine the final priorities, requirements, selection criteria, and definitions after considering responses to this notice and other information available to the Department. This notice does not preclude us from proposing or funding additional priorities, other selection criteria, or other requirements, or changing definitions, subject to meeting applicable rulemaking requirements.

Note: This notice does not solicit applications. In any year in which we choose to use these priorities, we will invite applications through a notice in the Federal Register. The effect of each type of priority follows:

Absolute priority: Under an absolute priority we consider only applications that meet the priority (34 CFR 75.105(c)(3)).

Competitive preference priority: Under a competitive preference priority we give competitive preference to an application by either (1) awarding additional points, depending on how well or the extent to which the application meets the priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Discussion of Proposed Priorities

Proposed Priority 1—Comprehensive Plan

Background

The Safe Schools/Healthy Students (SS/HS) grant program draws on the best practices of the education, justice, social service, and mental health systems to provide a continuum of activities, curricula, programs, and services designed to increase protective factors and reduce risk as an effective way to promote healthy child development and address the problems of school violence and alcohol and other drug abuse.

Key to the SS/HS grant program is the creation and implementation of a comprehensive plan that addresses specific needs, gaps, or weaknesses in services, and builds on available resources and services. Creating and implementing the comprehensive plan allows an applicant to prevent youth drug use and violence, promote safe environments and prosocial behaviors, and provide for healthy child development.

In previous years, the required comprehensive plan has included six elements. The proposed priority for the program has been revised to include five elements. We propose this change in order to reduce overlap between the required elements.

Proposed Priority 1—Comprehensive Plan

This proposed priority would support the projects of local educational agencies (LEAs) proposing to implement an integrated, comprehensive community-wide plan designed to create safe, respectful, and drug-free school environments and promote prosocial skills and healthy childhood development. Plans must focus activities, curricula, programs, and services in a manner that responds to the community's existing needs, gaps, or weaknesses in areas related to the five comprehensive plan elements:

• Element One—Safe School Environments and Violence Prevention Activities.

• Element Two—Alcohol, Tobacco, and Other Drug Prevention Activities.

• Element Three—Student Behavioral, Social, and Emotional Supports.

• Element Four—Mental Health Services.

• Element Five—Early Childhood Social and Emotional Learning Programs.

Proposed Priority 2—LEAs That Have Not Previously Received a Grant or Services Under the Safe Schools/Healthy Students Initiative

Background

In recent fiscal years, we have limited eligibility for SS/HS grants to LEAs that had not previously received an SS/HS grant. We limited eligibility for awards in this way in an effort to maximize the opportunity for as many LEAs as possible to receive SS/HS funding. We now propose eliminating this absolute restriction on LEA eligibility, and, instead, propose to establish a priority for LEAs that have not previously received funding under the SS/HS program. We believe that this approach addresses the needs of LEAs that have not previously received SS/HS funding while still permitting prior recipients that need additional resources in order to fully achieve their goals to have an opportunity to compete for another award. We do not intend this change to apply to prior recipients of SS/HS grants that have a current active grant under the program.

Proposed Priority 2—LEAs That Have Not Previously Received a Grant or Services Under the Safe Schools/Healthy Students Initiative

Under this proposed priority, we would give priority to applications from LEAs that have not yet received a grant under this program as an applicant or as a member of a consortium. In order for a consortium application to be eligible under this priority, no member of the LEA consortium may have received a grant or services under this program as an applicant or as a member of a consortium applicant.

Discussion of Proposed Requirements

Background

SS/HS applicants from prior competitions and former SS/HS grantees have suggested that we clarify or modify certain SS/HS application requirements. These include: eligibility requirements that prohibit former SS/HS grantees from reapplying for SS/HS funding; the requirement that an application include two memoranda in order to be forwarded to peer review; the use of the National Center for Education Statistics (NCES) Common Core of Data (CCD) school locale codes to establish maximum funding amounts that applicants may request; and the limits on the amount of funds that grantees may use for certain project activities.

We have carefully considered this input, and propose several new or modified program requirements. First, we propose eliminating the restriction on eligibility for former SS/HS grantees. We believe that in some instances, for example in the case of very large LEAs, additional resources may be required to fully implement their comprehensive plan and achieve their goals. However, to ensure that former SS/HS grantees that wish to apply for additional funding are targeting different school sites or target populations, we propose that LEAs that have previously received an SS/HS grant include the following assurance as part of their application. This assurance would state that the scope of work included in the current SS/HS application is new and that funding, if awarded, will not be used to sustain previously funded activities, curricula, programs, and services provided to a population served by the first SS/HS grant.

We also propose changes in funding limits established for applicants. Previously, we used locale code designations from the NCES Common Core of Data to determine maximum award sizes. Because that approach has produced some unintended results, we propose using enrollment size in order to establish maximum grant award amounts. We believe that this approach better matches funding needs with maximum grant amounts.

Instead of two memoranda of agreement (MOAs) that have been required in previous competitions, we propose that a single, preliminary MOA be submitted with the application. This preliminary MOA would be more general in nature than those required in previous competitions. We propose that the preliminary MOA must be signed by the authorized representatives of the LEA, the local public mental health authority, the local law enforcement agency, and the local juvenile justice agency—the required SS/HS partners.

Because SS/HS projects for a consortium of LEAs often involve multiple local public mental health, law enforcement, and/or juvenile justice partners, we propose that applications submitted by a consortium be signed by the authorized representative for each LEA included in the consortium, and authorized representatives for the corresponding required SS/HS partners for each member LEA. We also propose that the preliminary MOA must demonstrate the support and commitment of the required SS/HS partners to implement and sustain the project.

We propose that applicants include information in the preliminary MOA that supports the selection of the identified local public mental health, law enforcement, and juvenile justice partners. The preliminary MOA must name a core management team, comprised of senior representatives from the required partners, and detail how the team would support the project director in the day-to-day management of the project. The preliminary MOA must also describe how multiple and diverse sectors of the community, including parents and students, have been and will continue to be involved in the design, implementation, and continuous improvement of the project.

Finally, we propose that applicants submit a logic model as an attachment to the preliminary MOA. The logic model, a graphic representation of the project in chart format, would identify needs or gaps with the corresponding goals, objectives, activities, partners' roles, outcomes, and method for measuring outcomes for each of the SS/HS elements. The core management team discussion and the logic model attachment would serve to clarify the roles of the SS/HS required partners as they relate to project planning, management, implementation, evaluation, and communication.

We also propose that grantees be required to submit a final MOA. The final MOA would provide an opportunity for successful applicants to update and revise the information included in the preliminary MOA furnished with the application, including information about the selection of partners, updates to the statement of support and commitment provided by the required SS/HS partners, the final roster of the core management team, any needed revisions to the process for including multiple and diverse sectors of the community in project implementation, and the final logic model. We also propose that the final MOA include descriptive information about partner financial responsibility for services and other issues including quality, accountability and coordination of services. We propose that the final MOA must also detail the procedures to be used for referral, treatment, and follow-up for children and adolescents needing mental health services. The final MOA must also include an assurance that the local public mental health authority will provide administrative control and/or oversight of the delivery of mental health services. We believe that these additional requirements, when implemented, will increase the likelihood of project success. The final MOA must be signed by the authorized representatives of each of the required partners and be submitted approximately six months after the award is made.

We also propose that grantees use at least seven percent of their grant award amount to conduct a local evaluation. SS/HS projects are unusually complex, and require a broad range of evaluation activities, including process, formative, and outcome evaluations in order to supply the information needed for effective management and project improvement.

Finally, we propose to limit a grantee's use of grant funds for costs associated with security equipment, security personnel, and minor remodeling of school facilities to improve school safety, to no more than 10 percent of the total budget for each year. Expenditures for security equipment and personnel will have limited impact on school safety absent a comprehensive approach.

Accordingly we propose the following requirements:

Proposed Requirements

Application and Eligibility. We propose that an applicant must meet the following requirements:

Proposed Requirement 1: Program-Specific Assurance for Former SS/HS Grant Recipients

For those LEAs that have received funds or services (or for those LEA consortia that include a member LEA that has received funds or services) under the SS/HS program, a program-specific assurance must be submitted as part of the SS/HS application. All participating LEAs in a proposed consortium project must sign this program-specific assurance. The assurance must state that the scope of work included in the current SS/HS application is new and that funding, if awarded, will not be used to sustain previously funded activities, curricula, programs, and services to a population served by the first SS/HS grant. Applications from prior SS/HS grant recipients (or from a consortium that includes an LEA that has previously received SS/HS funds or services) that do not include the program-specific assurance would be rejected and not considered for funding.

Proposed Requirement 2: Funding Limits for Applicants

We propose that an applicant's request for funding must not exceed the following maximum amounts, based on student enrollment data. Specifically, we propose that the maximum amount an applicant may request for any of the project's four 12-month budget periods would be: $2,250,000 for an LEA with at least 35,000 students; $1,500,000 for an LEA with at least 5,000 students but less than 35,000 students; and $750,000 for an LEA with less than 5,000 students; and that in applying these maximums, applicants must use the most recent student enrollment data from the National Center for Education Statistics' (NCES) Common Core of Data (CCD) as posted on the NCES Web site. In the case of consortium applicants, the maximum funding request is based on combined student enrollment data for the participating LEAs. Bureau of Indian Affairs schools not included in the NCES database and requesting grant funds that exceed $750,000 for any of the project's four 12-month periods must provide documentation of enrollment data.

Proposed Requirement 3: Preliminary Memorandum of Agreement (MOA)

We propose that each applicant must include in its application a preliminary MOA that is signed by the authorized representatives of the LEA, the local public mental health authority, the local law enforcement agency, and the local juvenile justice agency—the required SS/HS partners. For consortium applicants, the preliminary MOA must be signed by each member LEA and the corresponding required SS/HS partners for each member LEA. Additionally, the preliminary MOA must:

(a) Include information that supports the selection of each identified SS/HS required partner that has signed the preliminary MOA;

(b) demonstrate the support and commitment of the required SS/HS partners to implement and sustain the project if funded;

(c) name a core management team of senior representatives from the required partners, and clearly define how each member of the team will support the project director in the day-to-day management of the project;

(d) describe how multiple and diverse sectors of the community, including parents and students, have been and will continue to be involved in the design, implementation, and continuous improvement of the project; and

(e) include, as an attachment, a logic model (a graphic representation of the project in chart format) that identifies needs or gaps and connects those needs or gaps with corresponding project goals, objectives, activities, partners' roles, outcomes, and outcome measures for each of the SS/HS elements.

Applications that do not include the preliminary MOA signed by the authorized representatives of each of the required partners (the LEA, local public mental health authority, local law enforcement agency, and local juvenile justice agency) and the logic model would be rejected and not considered for funding.

Proposed Requirement 4: Final Memorandum of Agreement (MOA)

If funded, grant recipients must complete a final MOA. The final MOA must be signed by the SS/HS partners—the authorized representatives for the LEA, the local public mental health authority, the local law enforcement agency, and the local juvenile justice agency. For consortium applicants, the final MOA must be signed by each member LEA and the corresponding required SS/HS partners for each member LEA. The final MOA must also include the following:

(a) Information that supports the selection of each identified SS/HS required partner that has signed the final MOA;

(b) any needed revisions to the statement of support and commitment for each of the required SS/HS partners to implement and sustain the project;

(c) a final roster of the core management team of senior representatives from the required SS/HS partners, that clearly defines how each member of the team will support the project director in the day-to-day management of the project;

(d) any needed revisions to the process for including multiple and diverse sectors of the community in the implementation and continuous improvement of the project;

(e) a final logic model that identifies needs or gaps and connects those needs or gaps with corresponding project goals, objectives, activities, partners' role, outcomes, and outcome measures for each of the SS/HS elements;

(f) a description of each partner's financial responsibility for the services that it will provide along with the conditions and terms of responsibility for those services, including quality, accountability, and coordination of services as they relate to achieving the goals, objectives, and outcomes of the project;

(g) a description of the procedures to be used for referral, treatment, and follow-up for children and adolescents in need of mental health services and an assurance that the local public mental health authority will provide administrative control and/or oversight of the delivery of mental health services; and

(h) any other necessary revisions to information furnished in the preliminary MOA.

Proposed Funding Restrictions

Proposed Funding Restriction 1: We propose that no less than seven percent of a grantee's budget for each year must be used to support costs associated with local evaluation activities.

Proposed Funding Restriction 2: We propose that no more than 10 percent of the total budget for each project year may be used to support costs associated with security equipment, security personnel, and minor remodeling of school facilities to improve school safety.

Discussion of Proposed Selection Criteria

Background

The SS/HS grant program was created to provide Federal financial assistance to school districts and communities to promote ongoing partnerships as a way of enhancing and expanding their existing activities relating to youth violence prevention and healthy child development. Since the original competition in FY 1999, four additional competitions have been held (FY 2001, FY 2002, FY 2004 and FY 2005). Our experience with administering these competitions, including feedback from peer reviewers, applicants, and funded grantees, demonstrates the need to use program-specific selection criteria that will better identify applications for SS/HS funding that are most likely to produce successful SS/HS projects. We believe these refinements will contribute to our on-going efforts to improve the initiative.

Proposed Selection Criteria

We propose the following selection criteria for this program:

1. Community Assessment

(a) The extent to which the applicant describes individual, family, school, and community risk and protective factors that relate to the five SS/HS elements and will be addressed by the project.

(b) The extent to which the applicant describes student problem behaviors as they relate to the five SS/HS elements and how they will be addressed by the project.

(c) The extent to which the applicant identifies, in the project narrative and the logic model, needs and gaps related to the five SS/HS elements that are not addressed by current services and programs.

2. Goals and Objectives

(a) The extent to which the applicant's project narrative and logic model specify one or more goals for each of the five SS/HS elements, and the goals are clearly linked to the needs and gaps identified in the community assessment.

(b) The extent to which the objectives identified in the applicant's project narrative and logic model are measurable and linked to each of the stated goals.

3. Project Design

(a) The extent to which the applicant's project narrative and logic model propose activities, curricula, programs, and services that will address each of the goals and objectives of the proposed project.

(b) The extent to which activities, curricula, programs, and services proposed by the applicant are evidence-based or reflect current research and effective practice, and are appropriate for the age and developmental levels, gender, and cultural diversity of the target population.

4. Evaluation

(a) The extent to which the applicant's project narrative describes a plan for regularly monitoring program implementation, and identifies process measures that the applicant will use to assess the quality and completeness of the activities planned under the grant.

(b) The extent to which the applicant's project narrative and logic model identify outcomes that are clearly linked to the identified objectives and activities for the project, and specify how outcomes will be measured.

5. Management

(a) The extent to which the applicant describes a management plan adequate to achieve objectives of the proposed program on time and within budget, including clearly defined responsibilities of partners, staff, and contracted service providers, and milestones for accomplishing project tasks.

(b) The extent to which the applicant provides, in the project narrative and preliminary MOA, information about any preexisting partnership involving the required SS/HS partners, and that partnership's accomplishments directly related to the five SS/HS elements.

(c) The extent to which the applicant describes, in the project narrative and in the preliminary MOA, a core management team that is appropriate and adequate to achieve the project's objectives and support the project director in day-to-day management of the project.

(d) The extent to which the applicant describes, in the project narrative and in the preliminary MOA, how multiple and diverse sectors of the community, including students and families, have been and will continue to be involved in the design, implementation, and continuous improvement of the project.

(e) The extent to which the applicant describes a plan to develop data systems that will be used to support decision making processes established for the grant, including the use of technology.

6. Budget

The extent to which the proposed budget and budget narrative correspond to the project design and are reasonable in relation to the numbers of students and staff, and the identified objectives to be achieved.

Additional Selection Factor

We propose to consider geographic distribution and diversity of activities addressed by the projects in selecting an application for an award.

Proposed Definitions

Several important terms associated with this competition are not defined in the statute. We propose the following definitions:

1. Authorized representative—We propose defining the term authorized representative as the official within an organization with the legal authority to give assurances, make commitments, enter into contracts, and execute such documents on behalf of the organization as may be required by the U.S. Department of Education (the Department), including certification that commitments made on grant proposals will be honored and that the applicant agrees to comply with the Department's regulations, guidelines, and policies.

2. Local juvenile justice agency—We propose defining the term local juvenile justice agency as an agency or entity at the local level that is officially recognized by State or local government to address juvenile justice issues in the communities to be served by the grant. Examples of juvenile justice agencies include: juvenile justice task forces; juvenile justice centers; juvenile or family courts; juvenile probation agencies; and juvenile corrections agencies.

3. Local law enforcement agency—We propose defining the term local law enforcement agency as the agency (or agencies) that has law enforcement authority for the LEA. Examples of local law enforcement agencies include: municipal, county, and State police; tribal police and councils; and sheriffs' departments.

4. Local public mental health authority—We propose defining the term local public mental health authority as the entity legally constituted (directly or through contract with the State mental health authority) to provide administrative control or oversight of mental health services delivery within the community.

Executive Order 12866

This notice of proposed priorities, requirements, selection criteria, and definitions has been reviewed in accordance with Executive Order 12866. Under the terms of the order, we have assessed the potential costs and benefits of this regulatory action.

The potential costs associated with this regulatory action are those resulting from statutory requirements and those we have determined as necessary for administering this program effectively and efficiently.

In assessing the potential costs and benefits—both quantitative and qualitative—of this regulatory action we have determined that the benefits of the proposed regulatory action justify the costs.

We have also determined that this regulatory action does not unduly interfere with State, local, and tribal governments in the exercise of their governmental functions.

Paperwork Reduction Act of 1995 (PRA)

Certain sections of the proposed priorities, requirements, and selection criteria for the SS/HS grant program contain information collection requirements already approved by the Office of Management and Budget (OMB) under OMB control number 1865-0004 (1890-0001). The Department does not believe the proposed priorities, requirements, and selection criteria will change the current approved burden for 1865-0004 (1890-0001). However, as required by the PRA, the Department is submitting 1865-0004 (1890-0001) to OMB for a revised information collection clearance concurrently with the publication of this notice of proposed priorities, requirements, selection criteria, and definitions.

The current absolute priority for the SS/HS grant program includes six elements that an applicant's comprehensive plan must address. This notice proposes to reduce the elements from six to five. While this notice proposes two new requirements, it proposes to eliminate a current requirement that applicants submit a MOA for mental health services. Also, we are proposing fewer program-specific selection criteria. The current approved information collection contains seven selection criteria with a total of 25 sub-criteria to which applicants must respond. We are proposing six selection criteria, with only 15 sub-criteria. All changes to the priorities, requirements and selection criteria are responsive to comments and suggestions we received from previous applicants and grantees.

The proposed changes to the information collection do not change the estimated 26 hours needed to review the instructions, search existing data sources, gather needed data, prepare and review responses. The elimination of one of the elements in the absolute priority and the elimination of 10 sub-criteria provide more than enough time for applicants to respond to new requirements (i.e., signatures on the program-specific assurance and completing a logic model).

In this notice, we are proposing a priority for LEAs that have not previously received a grant or services under the SS/HS Initiative. To receive priority, applicants will be required to submit a program-specific assurance. This new information collection requirement is primarily cosmetic, as the application will include a form requiring the authorized representative's signature for the applicant; for consortium applicants it would require the signatures from the authorized representative from all participating LEAs, but again, the elimination of the sub-criteria more than offsets this.

The current approved information collection requires applicants to submit two different MOAs with the application. We are proposing that applicants be required to submit a single preliminary MOA with the application and a final MOA to be submitted post award. The proposed collection does require submission of a logic model, but this requirement adds little burden as the applicant need only present a subset of the narrative information in a chart format.

If you want to comment on the proposed information collection requirements, send your comments to the Office of Information and Regulatory Affairs, OMB, Attention: Desk Officer for U.S. Department of Education by e-mail to OIRA_DOCKET@omb.eop.gov or by fax to (202) 395-6974. You may also send a copy of these comments to the Department contact named in the addresses section of this notice.

Intergovernmental Review

This program is subject to Executive Order 12372 and the regulations in 34 CFR part 79. One of the objectives of the Executive order is to foster an intergovernmental partnership and strengthened federalism. The Executive order relies on processes developed by State and local governments for coordination and review of the proposed Federal financial assistance.

This document provides early notification of our specific plans and action for this program.

Electronic Access to This Document

You may view this document, as well as other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number: 84.184L Safe Schools/Healthy Students)

Program Authority: Safe and Drug-Free Schools and Communities Act (20 U.S.C. 7131); Public Health Service Act (42 U.S.C. 290aa); and Juvenile Justice and Delinquency Prevention Act (42 U.S.C. 5614(b)(4)(e) and 5781 et seq.).

Dated: February 22, 2007.
Deborah Price,
Assistant Deputy Secretary for Safe and Drug-Free Schools.

[FR Doc. E7-3404 Filed 2-26-07; 8:45 am]

BILLING CODE 4000-01-P